DEPARTMENT OF TRANSPORTATION

Federal Aviation Administration

14 CFR Part 73

[Docket No. FAA-2015-2776; Airspace Docket No. 15-AEA-5]

RIN 2120-AA66

Proposed Amendment and Establishment of Restricted Areas; Chincoteague Inlet, VA

AGENCY: Federal Aviation Administration (FAA), DOT.

ACTION: Notice of proposed rulemaking (NPRM); reopening of comment period.

SUMMARY: This action reopens the comment period for the NPRM published September 10, 2015, proposing to expand the restricted airspace at Chincoteague Inlet, VA. This reopening of the comment period is necessary because a chart depicting the proposed airspace was not available prior to the original comment period closing date. This action will ensure that interested persons have the opportunity to view the chart and submit comments regarding the proposal.

DATES: The comment period for the NPRM published September 10, 2015 (80 FR 54444) closed on October 26, 2015, and reopened until February 22, 2016.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-2776 and Airspace Docket No. 15-AEA-5, at the beginning of your comments. You may also submit comments through the Internet at http://www.regulations.gov. Comments on environmental and land use aspects to should be directed to: NASA Wallops Flight Facility, Attn: Ms. Shari Silbert, Wallops Island, VA 23337; telephone: (757) 824-2327.

FOR FURTHER INFORMATION CONTACT: Paul Gallant, Airspace Policy Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2015-2776 and Airspace Docket No. 15-AEA-5) and be submitted in triplicate to the Docket Management System (see ADDRESSES section for address and phone number). You may also submit comments through the Internet at http://www.regulations.gov.

Persons wishing the FAA to acknowledge receipt of their comments on this action must submit with those comments a self-addressed, stamped postcard on which the following statement is made: “Comments to FAA Docket No. FAA-2015-2776 and Airspace Docket No. 15-AEA-5.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the internet at http://www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRM's should contact the FAA's Office of Rulemaking, (202) 267-9677, for a copy of Advisory Circular No. 11-2A.

Background

On September 10, 2015, the FAA published a notice of proposed rulemaking (NPRM) proposing the amendment and establishment of restricted areas at Chincoteague Inlet, VA (80 FR 54444), Docket No. FAA-2015-2776, Airspace Docket No. 15-AEA-5. The NPRM included a statement that a color chart of the proposed airspace would be available for viewing on the www.regulations.gov Web site. However, the chart was not posted until after the comment closing date. One commenter responded that it is difficult to understand the proposed changes because the chart was unavailable.

A color chart showing the location of the proposed restricted areas is now posted on the internet at http://www.regulations.gov. Search docket no. FAA-2015-2776 and click on “open docket folder” to view the chart.

To give the public an opportunity to view the chart prior to submitting comments, the FAA is reopening the comment period for 30 days. All comments submitted during the new comment period, as well as all comments previously received, will be considered before any final action is taken on the proposal. No other proposal information as published in the NPRM has been changed.

Issued in Washington, DC, on January 14, 2016.
Leslie M. Swann,
Acting Manager, Airspace Policy Group.

[FR Doc. 2016-01211 Filed 1-20-16; 8:45 am]

BILLING CODE 4910-13-P